STATE JUSTICE INSTITUTE

Notice of Public Meeting

DATE: Friday, November 10, 2000, 9 a.m.-5 p.m.

PLACE: La Costa Hotel, Carlsbad, CA.

Matters to be Considered: Consideration of proposals submitted for Institute funding and internal Institute business.

Portions Open to the Public: Consideration of proposals submitted for Institute funding.

Portions Closed to the Public: Discussion of internal personnel matters.

Contact Person: David Tevelin, Executive Director, State Justice Institute, 1650 King Street, Suite 600, Alexandria, VA 22314, (703) 684-6100.

David I. Tevelin,
Executive Director.

[FR Doc. 00-26735 Filed 10-13-00; 2:48 pm]

BILLING CODE 6820-SC-M